DEPARTMENT OF HEALTH AND HUMAN SERVICES

Administration for Children and Families

[Program Announcement No. ACYF/HS-2003-15]

Fiscal Year 2003 Discretionary Announcement for Head Start Partnerships With Historically Black Colleges and Universities; Availability of Funds and Requests for Applications; Corrections

AGENCY: Administration for Children and Families (ACF), HHS.

ACTION: Correction Notice for Head Start Historically Black Colleges and Universities Program Announcement No. ACYF/HHS-2003-15

SUMMARY: The is a correction notice for the Head Start Historically Black Colleges and Universities funding notice FR Doc 03-18165 that was published on July 21, 2003 (68 FR 43113). The document contained incorrect due dates for receipt of applications.

FOR FURTHER INFORMATION CONTACT: The Head Start Discretionary Grant Support Team (1-800-351-2293) is available to answer questions concerning application requirements and to refer you to the appropriate contact person in ACYF for programmatic questions. You may e-mail your questions to : HSB@esilsg.org. When contacting ACYF directly with programmatic questions please send to William F. Wilson, Grants Officer 330 C Street, SW., Washington, DC 20447, (202) 205-8913, wwilson@acf.hhs.gov. In order necessary, if you plan to submit an application you are requested to send a post card or call with the following information: the name, address, telephone and fax numbers, and e-mail addresses of the college/university at least four weeks prior to the submission deadline date to: ACYF Operations Center, Historically Black Colleges and Universities, 1150 Connecticut Avenue, NW., Suite 1100, Washington DC 20036, Telephone: 1-800-351-2293, e-mail: HSB@esilsg.org. An application kit including the necessary application forms and appendices can be obtained by contacting the above address, and/or visiting the ACYF Web site at: http://www.acf.hhs.gov/programs/hsb/grant/fundingopportunities/fundopport.htm.

Correction: In the Federal Register of July 21, 2003 in FR Doc 03-18165, on page 43119 the due date for receipt of applications is August 20, 2003. Please use this deadline date for submissions of applications for funding opportunities available for the FY '03 Head Start Historically Black Colleges and Universities program.

Dated: July 25, 2003.
Joan E. Ohl,
Commissioner, Administration on Children, Youth and Families.

[FR Doc. 03-19456 Filed 7-23-03; 8:45 am]

BILLING CODE 4184-01-P